DEPARTMENT OF COMMERCE

National Oceanic and Atmospheric Administration

50 CFR Part 679

[Docket No. 041126332-5039-02; I.D. 061405B]

Fisheries of the Exclusive Economic Zone Off Alaska; Reallocation of Pollock from the Aleutian Islands Subarea to the Bering Sea Subarea

AGENCY: National Marine Fisheries Service (NMFS), National Oceanic and Atmospheric Administration (NOAA), Commerce.

ACTION: Temporary rule; reallocation.

SUMMARY: NMFS is reallocating the projected unused amounts of Community Development Quota (CDQ), incidental catch allowance (ICA) and non-CDQ pollock from the Aleutian Islands subarea to the Bering Sea subarea. These actions are necessary to allow the 2005 total allowable catch (TAC) of pollock in the Aleutian Islands subarea to be harvested.

DATES: Effective June 21, 2005, through 2400 hrs, Alaska local time (A.l.t.), December 31, 2005.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

In the Aleutian Islands subarea, the 2005 A season allowance of non-CDQ pollock is 9,800 metric tons (mt), the ICA of pollock is 1,200 mt, and the CDQ pollock is 760 mt, as established by the 2005 and 2006 final harvest specifications for groundfish in the BSAI (70 FR 8979, February 24, 2005), for the period 1200 hrs, A.l.t., January 1, 2005, through 1200 hrs, A.l.t., June 10, 2005.

As of May 21, 2005, the Administrator, Alaska Region, NMFS, (Regional Administrator) has determined that the following A season apportionments of pollock in the Aleutian Islands subarea will not be harvested: 9,600 of non-CDQ pollock, 460 mt of ICA pollock and 760 mt of CDQ pollock. Therefore, in accordance with § 679.20(a)(5)(iii)(B)(4), NMFS reallocates 9,600 mt of non-CDQ pollock and 760 mt of CDQ pollock from the Aleutian Islands subarea to the Bering Sea subarea B season allocations. In accordance with § 679.20(a)(5)(iii)(B)(2)(ii), NMFS reallocates 460 mt from the Aleutian Islands subarea pollock ICA to the B season non-CDQ directed pollock fishery.

Also, the Regional Administrator has determined that the B season ICA is in excess of the necessary amount and is reallocating the excess B season apportionment of the ICA to the directed pollock fishery. In accordance with § 679.20(a)(5)(iii)(B)(2)(ii), NMFS reallocates 140 mt from the B season apportionment of the Aleutian Islands subarea pollock ICA to the B season non-CDQ directed pollock fishery.

Furthermore, the Regional Administrator has determined through consultation with the Aleut Corporation and the CDQ groups that 4,900 mt of the B season non-CDQ pollock and 1,140 mt of the B season CDQ pollock allocations in the Aleutian Islands subarea will not be harvested. Therefore, in accordance with § 679.20(a)(5)(iii)(B)(4), NMFS apportions 4,900 mt of non-CDQ pollock and 1,140 mt of CDQ pollock from the Aleutian Islands subarea to the Bering Sea subarea B season allocations. Table 3 has been revised to reflect this reallocation.

The harvest specifications for pollock in the Aleutian Islands subarea included in the harvest specifications for groundfish in the BSAI (70 FR 8979, February 24, 2005) are revised as follows: 200 mt to the A season allowance of non-CDQ pollock, 740 mt to the A season allowance of ICA pollock, 0 mt to the A season allowance of CDQ pollock, 1,000 mt to the B season allowance of non-CDQ pollock, 660 to the B season allowance of ICA pollock, and 0 mt to the B season allowance of CDQ pollock.

Pursuant to § 679.20(a)(5), Tables 3 and 10 are revised for the 2005 B season consistent with this reallocation. Footnote 1 continues to state the allocations under regulations at § 679.20(a)(5).

TABLE 3—2005 AND 2006 ALLOCATIONS OF POLLOCK TACS TO THE DIRECTED POLLOCK FISHERIES AND TO THE CDQ DIRECTED FISHING ALLOWANCES (DFA)¹
[Amounts are in metric tons]
Area and sector | 2005 Allocations | 2005 A season¹: A season DFA | 2005 A season¹: SCA harvest limit² | 2005 B season¹: B season DFA | 2006 Allocations | 2006 A season¹: A season DFA | 2006 A season¹: SCA harvest limit² | 2006 B season¹: B season DFA
Bering Sea subarea | 1,478,500 | ..... | ..... | ..... | 1,487,756 | ..... | ..... | .....
CDQ DFA | 147,850 | 59,140 | 41,398 | 90,610 | 148,776 | 59,510 | 41,657 | 89,265
ICA¹ | 44,577 | ..... | ..... | ..... | 44,856 | ..... | ..... | .....
AFA Inshore | 643,037 | 257,215 | 180,050 | 393,072 | 647,062 | 258,825 | 181,177 | 388,237
AFA Catcher/Processors³ | 514,429 | 205,772 | 144,040 | 314,458 | 517,650 | 207,060 | 144,942 | 310,590
Catch by C/Ps | 470,703 | 188,281 | ..... | 287,729 | 473,650 | 189,460 | ..... | 284,190
Catch by CVs³ | 43,726 | 17,491 | ..... | 26,729 | 44,000 | 17,600 | ..... | 26,400
Unlisted C/P Limit⁴ | 2,572 | 1,029 | ..... | 1,572 | 2,588 | 1,035 | ..... | 1,553
AFA Motherships | 128,607 | 51,443 | 36,010 | 78,614 | 129,412 | 51,765 | 36,235 | 77,647
Excessive Harvesting Limit⁵ | 225,063 | ..... | ..... | ..... | 226,472 | ..... | ..... | .....
Excessive Processing Limit⁶ | 385,822 | ..... | ..... | ..... | 388,237 | ..... | ..... | .....
Total Bering Sea DFA | 1,433,923 | 573,570 | 401,498 | 876,754 | 1,487,756 | 577,160 | 404,012 | 865,740
Aleutian Islands subarea¹ | 2,600 | ..... | ..... | ..... | 19,000 | ..... | ..... | .....
CDQ DFA | ..... | ..... | ..... | ..... | 1,900 | 760 | ..... | 1,140
ICA | 1,400 | 740 | ..... | 660 | 2,000 | 1,200 | ..... | 800
Aleut Corporation | 1,200 | 200 | ..... | 1,000 | 15,100 | 9,800 | ..... | 5,300
Bogoslof District ICA⁷ | 10 | ..... | ..... | ..... | 10 | ..... | ..... | .....
¹Under § 679.20(a)(5)(i)(A), the Bering Sea subarea pollock after subtraction for the CDQ DFA - 10 percent and the ICA - 3.35 percent, the pollock TAC is allocated as a DFA as follows: inshore component - 50 percent, catcher/processor component - 40 percent, and mothership component - 10 percent. In the Bering Sea subarea, the A season, January 20 - June 10, is allocated 40 percent of the DFA and the B season, June 10 - November 1 is allocated 60 percent of the DFA. The Aleutian Islands (AI) directed pollock fishery allocation to the Aleut Corporation remains after first subtracting for the CDQ DFA - 10 percent and second the ICA - 2,000 mt. The Aleut Corporation directed pollock fishery is closed to directed fishing until the management provisions for the AI directed pollock fishery become effective under Amendment 82. In the AI subarea, the A season is allocated 40 percent of the ABC and the B season is allocated the remainder of the directed pollock fishery.
²In the Bering Sea subarea, no more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³Under § 679.20(a)(5)(i)(A)(4), not less than 8.5 percent of the DFA allocated to listed catcher/processors shall be available for harvest only by eligible catcher vessels delivering to listed catcher/processors.
⁴Under § 679.20(a)(5)(i)(A)(4)(iii), the AFA unlisted catcher/processors are limited to harvesting not more than 0.5 percent of the catcher/processors sector's allocation of pollock.
⁵Under § 679.20(a)(5)(i)(A)(6) NMFS establishes an excessive harvesting share limit equal to 17.5 percent of the sum of the pollock DFAs.
⁶Under § 679.20(a)(5)(i)(A)(7) NMFS establishes an excessive processing share limit equal to 30.0 percent of the sum of the pollock DFAs.
⁷The Bogoslof District is closed by the final harvest specifications to directed fishing for pollock. The amounts specified are for ICA only, and are not apportioned by season or sector.

TABLE 10—2005 AND 2006 BERING SEA SUBAREA INSHORE COOPERATIVE ALLOCATIONS
[Amounts are in metric tons]
Cooperative name and member vessels | Sum of member vessel's official catch histories¹ | Percentage of inshore sector allocation | 2005 Annual cooperative allocation | 2006 Annual cooperative allocation
Akutan Catcher Vessel Association ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MARK I, MAJESTY, MARCY J, MARGARET LYN, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER | 245,922 | 28.130% | 182,925 | 182,018
Arctic Enterprise Association BRISTOL EXPLORER, OCEAN EXPLORER, PACIFIC EXPLORER | 36,807 | 4.210% | 27,378 | 27,242
Northern Victor Fleet Cooperative ANITA J, COLLIER BROTHERS, COMMODORE, EXCALIBUR II, GOLDRUSH, HALF MOON BAY, MISS BERDIE, NORDIC FURY, PACIFIC FURY, POSEIDON, ROYAL ATLANTIC, SUNSET BAY, STORM PETREL | 73,656 | 8.425% | 54,788 | 54,516
Peter Pan Fleet Cooperative AJ, AMBER DAWN, AMERICAN BEAUTY, ELIZABETH F, MORNING STAR, OCEAN LEADER, OCEANIC, PACIFIC CHALLENGER, PROVIDIAN, TOPAZ, WALTER N | 23,850 | 2.728% | 17,740 | 17,652
Unalaska Cooperative ALASKA ROSE, BERING ROSE, DESTINATION, GREAT PACIFIC, MESSIAH, MORNING STAR, MS AMY, PROGRESS, SEA WOLF, VANGUARD, WESTERN DAWN | 106,737 | 12.209% | 79,395 | 79,001
UniSea Fleet Cooperative ALSEA, AMERICAN EAGLE, ARGOSY, AURIGA, AURORA, DEFENDER, GUN-MAR, MAR-GUN, NORDIC STAR, PACIFIC MONARCH, SEADAWN, STARFISH, STARLITE, STARWARD | 213,521 | 24.424% | 158,824 | 158,037
Westward Fleet Cooperative ALASKAN COMMAND, ALYESKA, ARCTIC WIND, CAITLIN ANN, CHELSEA K, DONA MARTITA, FIERCE ALLEGIANCE, HICKORY WIND, OCEAN HOPE 3, PACIFIC KNIGHT, PACIFIC PRINCE, VIKING, WESTWARD I | 173,744 | 19.874% | 129,236 | 128,595
Open access AFA vessels | 0 | 0.00% | 0 | 0
Total inshore allocation | 874,238 | 100% | 650,287 | 647,062
¹According to regulations at § 679.62(e)(1), the individual catch history for each vessel is equal to the vessel's best 2 of 3 years inshore pollock landings from 1995 through 1997 and includes landings to catcher/processors for vessels that made 500 or more mt of landings to catcher/processors from 1995 through 1997.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Aleutian Islands subarea pollock to the Bering Sea subarea B season. At the end of May 2005, NMFS was notified by the Aleut Corporation and the CDQ groups that the pollock allocations in the Aleutian Islands subarea will not be harvested. Since the B season opens June 10, it is important to immediately inform the industry as to the final Bering Sea subarea B season allocations. Immediate notification is necessary in order to allow an orderly transition into the B season and to provide timely information to allow for the orderly conduct and efficient operation of this fishery thereby allowing the industry to plan for the fishing season and avoid potential disruption to the fishing fleet as well as processors.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: June 14, 2005.
John H. Dunnigan
Director, Office of Sustainable Fisheries, National Marine Fisheries Service.

[FR Doc. 05-12205 Filed 6-20-05; 8:45 am]

BILLING CODE 3510-22-S